DEPARTMENT OF AGRICULTURE

Food Safety and Inspection Service

[Docket No. 03-015N]

FSIS Safety and Security Guidelines for the Transportation and Distribution of Meat, Poultry, and Egg Products; Notice of Availability

AGENCY: Food Safety and Inspection Service, USDA.

ACTION: Notice of Availability; Request for public comments and information.

SUMMARY: The Food Safety and Inspection Service is announcing the availability of the Agency's current safety and security guidelines for the transportation and distribution of meat, poultry, and egg products. These guidelines were developed to assist facilities and shippers of all sizes to improve food safety and security in the handling of FSIS-regulated products. These guidelines include measures to improve food security during the loading, transport, in-transit storage, and unloading of meat, poultry, and egg products. In these guidelines, FSIS strongly recommends that shippers and receivers, as well as transporters, of these products develop controls for ensuring the security of products through all phases of distribution. Such controls are necessary to protect the products from intentional, as well as unintentional, contamination.

The Agency has decided to collect and analyze data on these transportation guidelines, which include both food safety and food security components, and determine whether there is a need to adopt any of these guidelines as regulations. Consequently, in this notice, FSIS is asking a series of questions about the transportation guidelines to solicit information from interested parties.

DATES: Submit written comments on the transportation guidelines and answers to the questions to the FSIS Docket Room no later than October 3, 2003.

ADDRESSES: Submit one original and two copies of all written comments on the proposed transportation guidelines and responses to questions to: FSIS Docket Room, U.S. Department of Agriculture, Food Safety and Inspection Service, Room 102, Cotton Annex, Washington, DC 20250-3700. All comments and responses received will be considered part of the public record and will be available for viewing in the Docket Room between 8:30 a.m. and 4:30 p.m., Monday through Friday, except Federal holidays. Copies of the FSIS Safety and Security Guidelines for the Transportation and Distribution of Meat, Poultry, and Egg Products will also be available in the FSIS Docket Room between 8:30 a.m. and 4:30 p.m., Monday through Friday, except Federal holidays and on the Internet at: http://www.fsis.usda.gov/oa/topics/transportguide.htm. Printed copies of the Guidelines may be requested from the USDA FSIS Office of Congressional and Public Affairs, 1400 Independence Avenue SW., Room 175, Washington, DC 20250-3700; telephone (202) 720-9113. These guidelines are available in both English and Spanish.

FOR FURTHER INFORMATION CONTACT: Dr. Perfecto Santiago, Assistant Deputy Administrator, Program Development Staff, Office of Policy and Program Development, Food Safety and Inspection Service, U.S. Department of Agriculture, Washington, DC 20250-3700; telephone (202) 205-0699 or fax (202) 401-1760.

SUPPLEMENTARY INFORMATION:

Background

In May 2002, FSIS issued the FSIS Security Guidelines for Food Processors to assist Federal- and State-inspected meat, poultry, and egg product establishments in identifying ways to strengthen their food security protection. At that time, the Agency noted that it would continue to provide guidance to businesses engaged in the production and distribution of FSIS-regulated foods, and work with the Food and Drug Administration (FDA) and other agencies to provide guidance for the handling of meat, poultry and egg products during transportation, distribution, and storage.

FSIS recognizes that food producers, transporters, and distributors have a vested interest in making food security, as well as food safety, a top priority. FSIS will continue to seek input from stakeholders in developing guidance on food security and food safety matters. To ensure that the transporters and distributors of meat, poultry, and egg products have access to information to help them protect the food that they handle from threats, FSIS has developed the FSIS Safety and Security Guidelines for the Transportation and Distribution of Meat, Poultry, and Egg Products. These guidelines provide safety measures to prevent physical, chemical, or microbiological contamination of food products during transportation and storage, including measures that deal specifically with the prevention of intentional contamination due to criminal or terrorist acts.

Meat, poultry, and egg products are transported by air, sea, and land. Hazards may be present, or intentionally introduced, at any point during transportation and distribution, but are most likely to occur at changes between transportation modes and during loading and unloading. Meat, poultry, and egg products frequently are transported multiple times and often stored and further processed on their way to the consumer. These products could be exposed to hazards at each step in that process. For example, a product might be transported from a slaughter establishment to a raw-product processing establishment, next to a further processing plant, then to a distribution center, and finally to a retail market for purchase by the consumer.

The guidelines were developed to assist facilities and shippers of all sizes, as well as Federal, State, and local authorities, to improve food safety and security in the handling of FSIS-regulated products at every step in the transportation and distribution process.

While these guidelines are voluntary, and parties may choose to adopt measures suggested by many different sources, it is vital that all parties in the transportation and distribution process for meat, poultry, and egg products take steps to ensure the security of their operations, the integrity of their processes and products, and the continued safety of the products that they handle.

The first section of these guidelines provides food safety measures that are designed to help prevent contamination of food products during transportation and storage. The second section of the guidelines deals specifically with food security measures that may be taken to prevent deliberate contamination as part of criminal or terrorist acts. Both sections apply to all points of shipment from the processor to final delivery at the retail store, restaurant, or other facility serving consumers, as well as at any intermediate stops (i.e., intermediate warehouses, transfer, and handling facilities such as airports, break-bulk terminals, rail sidings, etc.) during shipment prior to final delivery. These guidelines are applicable whether the potential contamination occurs due to an intentional or unintentional act. Implementation of these guidelines will assist all participants in the transportation and distribution process in preventing such acts or in responding to them effectively should they occur.

The food safety section of the guidelines has a long history of development by FSIS. In February, 1995, the Pathogen Reduction/HACCP proposed rule (60 FR 6774) was published and in this proposal FSIS stated its commitment to develop standards to help ensure the safe handling of meat and poultry products during transportation and storage. A Technical Analysis Group (TAG) was used by FSIS and the Department of Transportation (DOT) in April 1995, to address the safety of food after it left the production facility and began to move through commerce. The TAG identified the primary hazards associated with the transport of perishable foods and recommended reasonable controls that might be employed by industry to ensure food safety.

Subsequent to the TAG report, FSIS and FDA issued an Advance Notice of Proposed Rulemaking (ANPR) on November 22, 1996 (61 FR 59372), seeking information and comments on approaches the agencies might take to foster food safety improvements that might be needed in the transportation and storage of foods. Responses to the TAG Report and the ANPR were used in the development of the food safety recommendations in the FSIS Safety and Security Guidelines for the Transportation and Distribution of Meat, Poultry, and Egg Products now being made available to the public.

The food security section of the guidelines addresses the possibility of deliberate attacks on the domestic food supply by individuals or groups and is a direct result of heightened concerns about homeland security that have resulted since the terrorist attacks on September 11, 2001.

Request for Comments and Information

FSIS has decided to collect and analyze more data on the possible impacts of these guidelines before deciding whether it should proceed with rulemaking. The Agency invites public comment on how to strengthen the safety and security of meat, poultry, and egg products during the transportation and distribution process. The Agency is especially interested in informed responses regarding both food safety and food security to the following questions:

• Are there problems regarding food safety and food security in the transportation, distribution, or storage processes that the guidelines fail to address; or if all issues are addressed, are there flaws in the approaches described in the guidelines?

• If the guidelines can be improved, how could they be improved?

• Will transporters, distributors, and storage facilities have difficulty complying with these guidelines? If so, what difficulties do the guidelines pose? Would the guidelines pose greater, or different, difficulties for small firms than for large firms?

• Should the Agency initiate rulemaking to adopt the guidelines as regulations or will the guidelines be sufficiently effective if they are only voluntary?

• Would mandatory implementation of these transportation guidelines have any unusual or particularly significant impacts on any portion of the food distribution chain? If so, who would be affected and how?

• Would mandating these guidelines by regulation increase costs to transportation, distribution, and storage facilities? If so, would this result in increased costs to the consumer as the end user?

FSIS will consider all relevant comments in deciding whether any of the transportation guidelines should be proposed as a regulation. Should the Agency decide to propose a rule, it will summarize all of the comments and information that it receives and include the summary in the proposed rule.

Additional Public Notification

Public awareness of all segments of rulemaking and policy development is important. Consequently, in an effort to better ensure that minorities, women, and persons with disabilities are aware of this notice, FSIS will announce it and make copies of this Federal Register publication available through the FSIS Constituent Update. FSIS provides a weekly Constituent Update, which is communicated via Listserv, a free e-mail subscription service. In addition, the update is available online through the FSIS web page located at http://www.fsis.usda.gov. The update is used to provide information regarding FSIS policies, procedures, regulations, Federal Register notices, FSIS public meetings, industry recalls, and any other types of information that could affect or would be of interest to our constituents/stakeholders. The constituent Listserv consists of industry, trade, and farm groups, consumer interest groups, allied health professionals, scientific professionals, and other individuals that have requested to be included. Through the Listserv and web page, FSIS is able to provide information to a much broader, more diverse audience.

For more information contact the Congressional and Public Affairs Office, at (202) 720-9113. To be added to the free e-mail subscription service (Listserv) go to the “Constituent Update” page on the FSIS Web site at http://www.fsis.usda.gov/oa/update/update.htm.

Click on the “Subscribe to the Constituent Update Listserv” link, then fill out and submit the form.

Done in Washington, DC, on July 29, 2003.
Linda Swacina,
Acting Administrator.

[FR Doc. 03-19659 Filed 8-1-03; 8:45 am]

BILLING CODE 3410-DM-P